DEPARTMENT OF COMMERCE

International Trade Administration

[C-570-980]

Crystalline Silicon Photovoltaic Cells, Whether or Not Assembled Into Modules, From the People's Republic of China: Preliminary Results of Countervailing Duty Administrative Review, Rescission and Intent To Rescind, in Part; 2020

AGENCY: Enforcement and Compliance, International Trade Administration, Department of Commerce.

SUMMARY: The U.S. Department of Commerce (Commerce) preliminarily determines that countervailable subsidies were provided to producers and exporters of crystalline silicon photovoltaic cells, whether or not assembled into modules, (solar cells) from the People's Republic of China (China) during the period of review (POR), January 1, 2020, through December 31, 2020. We are rescinding this review with respect to Canadian Solar (USA) Inc. Further, we intend to rescind this review with respect to 60 companies. We invite interested parties to comment on these preliminary results.

DATES: Applicable January 10, 2023.

FOR FURTHER INFORMATION CONTACT: Robert Copyak or Lingjun Wang, AD/CVD Operations, Office VII, Enforcement and Compliance, International Trade Administration, U.S. Department of Commerce, 1401 Constitution Avenue NW, Washington, DC 20230; telephone: (202) 482-3642 or (202) 482-2316, respectively.

SUPPLEMENTARY INFORMATION:

Background

On February 4, 2022, Commerce initiated this administrative review of the countervailing duty (CVD) order on solar cells from China with respect to 81 companies.¹ Jinko Solar Import and Export Co., Ltd. (Jinko) and Risen Energy Co., Ltd. (Risen) are the mandatory respondents. On October 26, 2022, Commerce extended the deadline for completion of these preliminary results until no later than January 3, 2023.²

¹ See Initiation of Antidumping and Countervailing Duty Administrative Reviews, 87 FR 6487 (February 4, 2022).

² See Memorandum, “Extension of the Deadline for Preliminary Results,” dated October 26, 2022.

For a complete description of the events that followed the initiation of this review, see the Preliminary Decision Memorandum.³ A list of topics discussed in the Preliminary Decision Memorandum is included as Appendix I to this notice. The Preliminary Decision Memorandum is a public document and is on file electronically via Enforcement and Compliance's Antidumping and Countervailing Duty Centralized Electronic System (ACCESS). ACCESS is available to registered users at https://access.trade.gov. In addition, a complete version of the Preliminary Decision Memorandum can be accessed directly at https://access.trade/gov/public/FRNoticesListLayout.aspx.

³ See Memorandum, “Decision Memorandum for the Preliminary Results of the Countervailing Duty Administrative Review, Rescission in Part, and Preliminary Intent to Rescind in Part: Crystalline Silicon Photovoltaic Cells, Whether or Not Assembled into Modules, from the People's Republic of China; 2020,” dated concurrently with, and hereby adopted by, this notice (Preliminary Decision Memorandum).

Scope of the Order

The products covered by this order are crystalline silicon photovoltaic cells, and modules, laminates, and panels, consisting of crystalline silicon photovoltaic cells, whether or not partially or fully assembled into other products, including, but not limited to, modules, laminates, panels, and building integrated materials. For a complete description of the scope of this order, see the Preliminary Decision Memorandum.

Partial Rescission of Administrative Review

Because it is not Commerce's practice to review U.S. importers, we are rescinding this review with respect to Canadian Solar (USA) Inc.

Preliminary Intent To Rescind Administrative Review

In accordance with 19 CFR 351.213(d)(3), we intend to rescind this review with respect to 75 companies for which we find no reviewable suspended entries of subject merchandise, based on U.S. Customs and Border Protection (CBP) data. See Appendix III for a complete list of these companies.

Methodology

Commerce is conducting this administrative review in accordance with section 751(a)(1)(A) of the Tariff Act of 1930, as amended (the Act). For each of the subsidy programs preliminarily found to be countervailable, we preliminarily determine that there is a subsidy, i.e., a financial contribution from an authority that gives rise to a benefit to the recipient and that the subsidy is specific.⁴ For a full description of the methodology underlying our preliminary conclusions, including our reliance, in part, on facts available with adverse inferences pursuant to sections 776(a) and (b) of the Act, see the Preliminary Decision Memorandum.

⁴ See sections 771(5)(B) and (D) of the Act regarding financial contribution; section 771(5)(E) of the Act regarding benefit; and section 771(5A) of the Act regarding specificity.

Preliminary Rate for Non-Selected Companies Under Review

There are 19 companies for which a review was requested, which had reviewable entries, and which were not selected as mandatory respondents or found to be cross-owned with a mandatory respondent. See Appendix II. For these companies, because the rates calculated for the mandatory respondents, Jinko and Risen, were above de minimis and not based entirely on facts available, we are applying to the non-selected companies the simple average of the net subsidy rates calculated for Jinko and Risen This methodology is consistent with our practice for establishing an all-others rate pursuant to section 705(c)(5)(A) of the Act.⁵

⁵ See Truck and Bus Tires from the People's Republic of China: Preliminary Results of Countervailing Duty Administrative Review, and Rescission of Review, in Part; 2019, 86 FR 33644 (June 25, 2021).

Preliminary Results of Review

Commerce preliminarily determines the net countervailable subsidy rates for the period January 1, 2020, through December 31, 2020, are as follows:

Company | Subsidy rate (percent)
Jinko Solar Import and Export Co., Ltd. (Jinko) ⁶ | 10.84
Risen Energy Co., Ltd. (Risen) ⁷ | 21.22
Non-Selected Companies Under Review ⁸ | 16.03

Assessment Rates

⁶ This rate applies to: Jinko Solar Export and Import Co., Ltd. and its cross-owned companies: Zhejiang Jinko Solar Co., Ltd.; JinkoSolar Technology (Haining) Co., Ltd.; Jinko Solar Co., Ltd.; Yuhuan Jinko Solar Co., Ltd.; JinkoSolar (Chuzhou) Co., Ltd.; JinkoSolar (Yiwu) Co., Ltd.; JinkoSolar (Shangrao) Co., Ltd.; Xinjiang Jinko Solar Co., Ltd.; JinkoSolar (Sichuan) Co., Ltd.; Jiangxi Jinko Photovoltaic Materials Co., Ltd.; Ruixu Industrial Co., Ltd.; and Jinko Solar (Shanghai) Management Co., Ltd.

⁷ This rate applies to: Risen Energy Co., Ltd. and its cross-owned companies: Risen (Luoyang) New Energy Co., Ltd.; Risen (Wuhai) New Energy Co., Ltd.; Risen Energy (Changzhou) Co., Ltd.; Risen Energy (Ningbo) Co., Ltd.; Risen Energy (Yiwu) Co., Ltd.; Zhejiang Boxin Investment Co., Ltd.; Zhejiang Twinsel Electronic Technology Co., Ltd.; Jiangsu Sveck New Material Co., Ltd.; Changzhou Sveck Photovoltaic New Material Co., Ltd. (including Changzhou Sveck Photovoltaic New Material Co., Ltd. Jintan Danfeng Road Branch); Changzhou Sveck New Material Technology Co., Ltd.; Ninghai Risen Energy Power Development Co., Ltd.; Risen (Ningbo) Electric Power Development Co., Ltd.; Changzhou Jintan Ningsheng Electricity Power Co., Ltd.; Risen (Changzhou) Import and Export Co., Ltd.; and JiuJiang Shengchao Xinye Technology Co., Ltd. (including JiuJang Shengshao Xinye Technology Co., Ltd. Ruichang Branch).

⁸ See Appendix II of this notice for a list of all companies that remain under review but were not selected for individual examination and to which Commerce has preliminarily assigned the non-selected company rate.

In accordance with 19 CFR 351.221(b)(4)(i), we preliminarily assigned subsidy rates in the amounts for the producers/exporters shown above. Upon completion of the administrative review, consistent with section 751(a)(1) of the Act and 19 CFR 351.212(b)(2), Commerce shall determine, and CBP shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Rates

Pursuant to section 751(a)(1) of the Act, Commerce intends to instruct CBP to collect cash deposits in the amounts indicated for the producers/exporters listed above with regard to shipments of subject merchandise entered or withdrawn from warehouse, for consumption on or after the date of publication of the final results of this review. For all non-reviewed firms, we will instruct CBP to continue to collect cash deposits of estimated countervailing duties at the most-recent company-specific or all-others rate applicable to the company, as appropriate. These cash deposit requirements, when imposed, shall remain in effect until further notice.

Disclosure and Public Comment

We intend to disclose to interested parties the calculations performed for these preliminary results within five days of the date of publication of this notice in accordance with 19 CFR 351.224(b). Interested parties may submit case briefs within 30 days of publication of the preliminary results and rebuttal briefs within seven days after the time limit for filing case briefs.⁹ Note that Commerce has temporarily modified certain of its requirements for serving documents containing business proprietary information, until further notice.¹⁰ Pursuant to 19 CFR 351.309(c)(2) and (d)(2), parties who submit case or rebuttal briefs in this review are encouraged to submit with each argument: (1) a statement of the issue; (2) a brief summary of the argument; and (3) a table of authorities.¹¹

⁹ See 19 CFR 35 l.309(c)(l)(ii) and 351.309(d)(l); see also Temporary Rule Modifying AD/CVD Service Requirements Due to COVID-19, 85 FR 17006 (March 26, 2020) (“To provide adequate time for release of case briefs via ACCESS, E&C intends to schedule the due date for all rebuttal briefs to be 7 days after case briefs are filed (while these modifications are in effect).”).

¹⁰ See Temporary Rule Modifying AD/CVD Service Requirements Due to COVID-19; Extension of Effective Period, 85 FR 41363 (July 10, 2020).

¹¹ See 19 CFR 351.309(c)(1)(ii) and 351.309(d)(1).

Pursuant to 19 CFR 351.310(c), interested parties who wish to request a hearing, limited to issues raised in the case and rebuttal briefs, must submit a written request to the Assistant Secretary for Enforcement and Compliance within 30 days of the publication date of this notice.¹² Requests should contain: (1) the party's name, address, and telephone number; (2) the number of participants and whether an participant is a foreign national; and (3) a list of the issues to be discussed. If a request for a hearing is made, Commerce intends to hold the hearing at a time and date to be determined. Parties should confirm by telephone the date, time, and location of the hearing two days before the scheduled date.

¹² See 19 CFR 351.310(c).

Unless the deadline is extended, we intend to issue the final results of this administrative review, which will include the results of our analysis of the issues raised in the case briefs, within 120 days after the date of publication of these preliminary results, pursuant to section 751(a)(3)(A) of the Act and 19 CFR 351.213(h)(1).

Notification to Interested Parties

These preliminary results are issued and published pursuant to sections 751(a)(l) and 777(i)(l) of the Act, and 19 CFR 351.221(b)(4).

Dated: January 3, 2023.
Lisa W. Wang,
Assistant Secretary for Enforcement and Compliance.

Appendix I—List of Topics Discussed in the Preliminary Decision Memorandum

I. Summary

II. Background

III. Period of Review

IV. Intent To Rescind Review, in Part

V. Rate for Non-Selected Companies Under Review

VI. Scope of the Order

VII. Diversification of China's Economy

VIII. Subsidies Valuation

IX. Interest Rate Benchmarks, Discount Rates, and Benchmarks for Measuring Adequacy of Remuneration

X. Use of Facts Otherwise Available and Application of Adverse Inferences

XI. Analysis of Programs

XII. Recommendation

Appendix II—Non-Selected Companies Under Review

1. Anji Dasol Solar Energy Science & Technology Co., Ltd.

2. BYD (Shangluo) Industrial Co., Ltd.; Shanghai BYD Co., Ltd.

3. Chint New Energy Technology (Haining) Co., Ltd.

4. Chint Solar (Zhejiang) Co., Ltd.

5. JA Solar (Xingtai) Co., Ltd.

6. JA Solar Technology Yangzhou Co., Ltd.

7. Jiangsu High Hope Int'l Group

8. Jiangsu Huayou International Logistics

9. LONGi Solar Technology Co., Ltd.

10. Shanghai JA Solar Technology Co., Ltd.

11. Shenzhen Sungold Solar Co., Ltd.

12. Suntech Power Co., Ltd.

13. Toenergy Technology Hangzhou Co., Ltd.

14. Trina Solar (Changzhou) Science and Technology Co., Ltd.

15. Trina Solar Co., Ltd.

16. Wuxi Tianran Photovoltaic Co., Ltd.

17. Yingli Energy (China) Co., Ltd.

18. Changzhou Trina Solar Energy Co., Ltd.; Changzhou Trina Solar Yabang Energy Co., Ltd.; Hubei Trina Solar Energy Co., Ltd.; Turpan Trina Solar Energy Co., Ltd.; Yancheng Trina Solar Energy Technology Co., Ltd.; Changzhou Trina PV Ribbon Materials Co., Ltd.

Appendix III—Intent To Rescind Review, in Part

1. Canadian Solar Inc.; Canadian Solar International Limited; Canadian Solar Manufacturing; Canadian Solar Manufacturing (Changshu) Inc.; Canadian Solar Manufacturing (Luoyang) Inc.; CSI Cells Co., Ltd.; CSI Modules (Dafeng) Co., Ltd.; CSI Solar Power (China) Inc.; CSI-GCL Solar Manufacturing (Yancheng) Co., Ltd.

2. Changzhou Trina Hezhong Photoelectric Co., Ltd.

3. Trina (Hefei) Science and Technology Co., Ltd.

4. Yancheng Trinasolar Guoneng Science

5. Astronergy Co., Ltd.

6. Astronergy Solar

7. Baoding Jiasheng Photovoltaic Technology Co., Ltd.

8. Baoding Tianwei Yingli New Energy Resources Co., Ltd.

9. Beijing Tianneng Yingli New Energy Resources Co., Ltd.

10. Boviet Solar Technology Co., Ltd.

11. BYD (Shaoguan) Co., Ltd.

12. Chint Solar (HongKong) Company Limited

13. Chint Solar (Jiuquan) Co., Ltd.

14. DelSolar (Wujiang) Ltd.

15. DelSolar Co., Ltd.

16. De-Tech Trading Limited HK

17. Dongguan Sunworth Solar Energy Co., Ltd.

18. Eoplly New Energy Technology Co., Ltd.

19. ERA Solar Co., Ltd.

20. ET Solar Energy Limited

21. Fuzhou Sunmodo New Energy Equipment Co., Ltd.

22. GCL System Integration Technology Co., Ltd.

23. Hainan Yingli New Energy Resources Co., Ltd.

24. Hangzhou Sunny Energy Science and Technology Co., Ltd.

25. Hefei JA Solar Technology Co., Ltd.

26. Hengdian Group DMEGC Magnetics Co., Ltd.

27. Hengshui Yingli New Energy Resources Co., Ltd.

28. JA Solar Co., Ltd. (aka JingAo Solar Co., Ltd.)

29. JA Solar International Limited

30. Jiangsu Jinko Tiansheng Solar Co., Ltd.

31. Jinko Solar International Limited

32. Jiujiang Shengzhao Xinye Technology Co., Ltd.

33. Light Way Green New Energy Co., Ltd.

34. Lixian Yingli New Energy Resources Co., Ltd.

35. Longi (HK) Trading Ltd.

36. Luoyang Suntech Power Co., Ltd.

37. Nice Sun PV Co., Ltd.

38. Ningbo ETDZ Holdings Ltd.

39. Penglai Jutal Offshore Engineering

40. ReneSola Jiangsu Ltd.

41. Renesola Zhejiang Ltd.

42. Risen Energy (HongKong) Co., Ltd.

43. Shenzhen Topray Solar Co., Ltd.

44. Shenzhen Yingli New Energy Resources Co., Ltd.

45. Solar Philippines Module

46. Sumec Hardware and Tools Co., Ltd.

47. Sunpreme Solar Technology (Jiaxing) Co., Ltd.

48. Suntimes Technology Co., Limited

49. Systemes Versilis, Inc.

50. Taimax Technologies Inc.

51. Taizhou BD Trade Co., Ltd.

52. Talesun Energy

53. Talesun Solar

54. tenKsolar (Shanghai) Co., Ltd.

55. Tianjin Yingli New Energy Resources Co., Ltd.

56. Vina Solar Technology Co., Ltd.

57. Wuxi Suntech Power Co., Ltd.

58. Yingli Green Energy International Trading Company Limited

59. Zhejiang ERA Solar Technology Co., Ltd.

60. Zhejiang Sunflower Light Energy Science & Technology Limited Liability Company

[FR Doc. 2023-00240 Filed 1-9-23; 8:45 am]

BILLING CODE 3510-DS-P